INTERNATIONAL TRADE COMMISSION

[Investigation No. 337-TA-1249]

Certain Cellular Signal Boosters, Repeaters, Bi-Directional Amplifiers, and Components Thereof (I); Commission Determination Not To Review an Initial Determination Granting a Joint Motion To Terminate the Investigation Based on Settlement; Termination of the Investigation

AGENCY: U.S. International Trade Commission.

ACTION: Notice.

SUMMARY: Notice is hereby given that the U.S. International Trade Commission has determined not to review the presiding administrative law judge's (“ALJ”) initial determination (“ID”) (Order No. 7) granting a joint motion to terminate the investigation based on a settlement agreement. The investigation is terminated in its entirety.

FOR FURTHER INFORMATION CONTACT: Cathy Chen, Office of the General Counsel, U.S. International Trade Commission, 500 E Street SW, Washington, DC 20436, telephone 202-205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on February 25, 2021, based on a complaint filed on behalf of Wilson Electronics LLC of St. George, Utah (“Wilson”). 86 FR 11553-554 (Feb. 25, 2021). The complaint, as supplemented, alleged violations of section 337 of the Tariff Act of 1930, as amended, 19 U.S.C. 1337, based upon the importation into the United States, the sale for importation, and the sale within the United States after importation of certain cellular signal boosters, repeaters, bi-directional amplifiers, and components thereof by reason of infringement of certain claims of U.S. Patent Nos. 7,221,967 (“the '967 patent”); 7,409,186; 7,486,929; 7,729,669 (“the '669 patent”); 7,783,318 (“the '318 patent”); 8,583,033 (“the '033 patent”); 8,583,034; 8,639,180; 8,755,399; 8,849,187; 8,874,029; and 8,874,030. The complaint, as supplemented, further alleged that an industry in the United States exists as required by the applicable Federal Statute. The Commission instituted three separate investigations, and defined the scope of the present investigation as whether there is a violation of section 337 based on the allegations of infringement as to the asserted claims of the '967, '669, '318, and '033 patents as to the accused products identified in the notice of investigation. Id. The notice of investigation named as respondents: Cellphone-Mate, Inc. d/b/a SureCall of Fremont, California and Shenzhen SureCall Communication Technology Co., Ltd. of Shenzhen, China (collectively, “SureCall”).

On May 12, 2021, Wilson and SureCall filed a joint motion to terminate the investigation based on a settlement agreement.

On May 14, 2021, the ALJ issued the subject ID granting the joint motion to terminate pursuant to Commission Rule 210.21(b)(1) (19 CFR 210.21(b)(1)). See Order No. 7 at 1-2 (May 14, 2021). The ALJ found that the motion to terminate complies with the Commission's rules and that there is no evidence that terminating this investigation by settlement would be contrary to the public interest. Id. at 2. No petitions for review were filed.

The Commission has determined not to review the subject ID. The investigation is terminated in its entirety.

The Commission vote for this determination took place on May 27, 2021.

The authority for the Commission's determination is contained in section 337 of the Tariff Act of 1930, as amended, 19 U.S.C. 1337, and in Part 210 of the Commission's Rules of Practice and Procedure, 19 CFR part 210.

By order of the Commission.
Issued: May 27, 2021.
Lisa Barton,
Secretary to the Commission.

[FR Doc. 2021-11594 Filed 6-1-21; 8:45 am]

BILLING CODE P